DEPARTMENT OF DEFENSE

Office of the Secretary

[Docket ID: DoD-2023-OS-0039]

Proposed Collection; Comment Request

AGENCY: Office of the Under Secretary of Defense for Acquisition and Sustainment, Department of Defense (DoD).

ACTION: 60-Day information collection notice.

SUMMARY: In compliance with the Paperwork Reduction Act of 1995, the Defense Contract Management Agency announces a proposed public information collection and seeks public comment on the provisions thereof. Comments are invited on: whether the proposed collection of information is necessary for the proper performance of the functions of the agency, including whether the information shall have practical utility; the accuracy of the agency's estimate of the burden of the proposed information collection; ways to enhance the quality, utility, and clarity of the information to be collected; and ways to minimize the burden of the information collection on respondents, including through the use of automated collection techniques or other forms of information technology.

DATES: Consideration will be given to all comments received by July 5, 2023.

ADDRESSES: You may submit comments, identified by docket number and title, by any of the following methods:

Federal Rulemaking Portal: http://www.regulations.gov. Follow the instructions for submitting comments.

Mail: Department of Defense, Office of the Assistant to the Secretary of Defense for Privacy, Civil Liberties, and Transparency, 4800 Mark Center Drive, Mailbox #24, Suite 08D09, Alexandria, VA 22350-1700.

Instructions: All submissions received must include the agency name, docket number and title for this Federal Register document. The general policy for comments and other submissions from members of the public is to make these submissions available for public viewing on the internet at http://www.regulations.gov as they are received without change, including any personal identifiers or contact information.

FOR FURTHER INFORMATION CONTACT: To request more information on this proposed information collection or to obtain a copy of the proposal and associated collection instruments, please write to Defense Contract Management Agency HQ, 6090 Strathmore Rd., Richmond, VA 23237, ATTN: Mr. Michael Fludovich, or call 804-279-4318.

SUPPLEMENTARY INFORMATION:

Title; Associated Form; and OMB Number: Contractor Flight Operations Forms; DD Forms 1821, 2627, 2628, 3062; OMB Control Number 0704-0347.

Needs and Uses: The information collection requirement supported by these DD Forms support contractor requirements to have government approval of contract flight crewmembers and contract flights as specified in Defense Contract Management Command Instruction (DCMA INST) 8210.1, Contractor's Ground and Flight Operations. The contractor provides information on contractor personnel to the government. The government approves the contractor's request for aircrew training and eventually, approval for contractor personnel to operate and fly government aircraft. The government also approves all flights under contract.

The DD Form 2627 is used by contractors to request qualification training for contractor crewmembers. The contractor provides a personal history, verifies the crewmember's records, and requests government approval for training in a particular type of government aircraft. The 2627 and supporting documentation can be provided in hard or soft copy.

The DD Form 1821 is used by contractors to provide a succinct summary of a crewmember's flight history. This form is submitted along with DD Form 2627 as part of the supporting documentation for the request for qualification training.

The DD Form 2628 is used by contractors to request aircrew qualification for contractor crewmembers. The contractor verifies the crewmember's training completion and requests government approval for specific aircrew qualification in a particular type of government aircraft. The 2628 and supporting documentation can be provided in hard or soft copy.

The DD Form 3062 is used by contractors to request approval of flights under contract. The 3062 can be provided in hard or soft copy. Without the approval from the government, the contractor cannot fly under the liability coverage provided by DFARS 252.228-7001, Ground and Flight Risk.

Affected Public: Individuals or households.

DD Forms 1821, 2637, and 2628

Annual Burden Hours: 150.

Number of Respondents: 50.

Responses per Respondent: 6.

Annual Responses: 300.

Average Burden per Response: 30 minutes.

DD Form 3026

Annual Burden Hours: 1,300.

Number of Respondents: 100.

Responses per Respondent: 52.

Annual Responses: 5,200.

Average Burden per Response: 15 minutes.

Total

Annual Burden Hours: 1,450.

Number of Respondents: 150.

Annual Responses: 5,500.

Frequency: DD Forms 1821, 2627, and 2628 are completed once to verify a contractor's aircrew qualification. DD Form 3062 is completed as needed to request approval of flights under contract.

Dated: April 27, 2023.
Aaron T. Siegel,
Alternate OSD Federal Register Liaison Officer, Department of Defense.

[FR Doc. 2023-09626 Filed 5-4-23; 8:45 am]

BILLING CODE 5001-06-P